DEPARTMENT OF COMMERCE

Submission for OMB Review; Comment Request

The Department of Commerce will submit to the Office of Management and Budget (OMB) for clearance the following proposal for collection of information under the provisions of the Paperwork Reduction Act (44 U.S.C. Chapter 35).

Agency: Bureau of Economic Analysis (BEA), Commerce.

Title: Quarterly Survey of Payment Card and Bank Card Transactions Related to International Travel.

OMB Control Number: 0608-0072.

Form Number: BE-150.

Type of Request: Regular submission.

Number of Responses: 24 annually (6 filed each quarter).

Average Hours per Response: 16 hours is the average, but may vary considerably among respondents because of differences in company size and complexity.

Estimated Total Annual Burden Hours: 384.

Needs and Uses: The Quarterly Survey of Payment Card and Bank Card Transactions Related to International Travel (BE-150) is a survey that collects data on the credit, debit, charge, automated teller machine (ATM), and point of sale transactions of U.S. persons traveling abroad and foreign persons traveling in the United States. The information collected on this survey will be used to formulate U.S. international economic policy and analyze the impact of that policy, and the policies of foreign countries, on international trade in services. The data are also used in estimating the travel component of the U.S. international transactions accounts (ITAs) and national income and product accounts (NIPAs).

Affected Public: Businesses or other for-profit organizations.

Frequency: Quarterly.

Respondent's Obligation: Mandatory.

This information collection request may be viewed at www.reginfo.gov. Follow the instructions to view Department of Commerce collections currently under review by OMB.

Written comments and recommendations for the proposed information collection should be sent within 30 days of publication of this notice to OIRA Submission@omb.eop.gov or fax to (202) 395-5806.

Dated: January 27, 2015.
Glenna Mickelson,
Management Analyst, Office of the Chief Information Officer.

[FR Doc. 2015-01772 Filed 1-29-15; 8:45 am]

BILLING CODE 3510-06-P